DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of July 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-57,381; Brodsky's Uniform and Equipment, Tacoma, WA

TA-W-57,373; Teradyne, Teradyne Semiconductor Test Div., Central Boston, MA

TA-W-57,392; Apex Texicon, Inc., Bangor, PA

TA-W-57,471; Rohm and Haas Chemicals, LLC, Power Coatings Div., Wytheville, VA

TA-W-57,505; The Eckadams Company, Osceola, AR

TA-W-57,408; Advanced Electronics, Inc., Boston, MA

TA-W-57,488; Plastic Oddities, Inc., Shelby, NC

TA-W-57,403; Alfa Laval, Inc., Fluid Handling Operation, Pleasant Prairie, WI

TA-W-57,417; Unaxis Optics USA, Inc., a subsidiary of Unaxis, including on-site production workers from Excell Personnel and Express Personnel, Golden, CO

TA-W-57,469 & A; NABCO, Inc., a subsidiary of Remy International, Kaleva, MI and Marion, MI

TA-W-57,113; Vander-Bend Manufacturing, LLC, Sunnyvale, CA

TA-W-57,259; Omni Integrated Technologies, Inc., Fairfield, OH

TA-W-57,364; Akro-Mills, div. of Myers Industries, Inc., Akron, OH

TA-W-56,468; Milwaukee Electric Tool Corp., Brookfield Plant, Brookfield, WI

TA-W-57,171; Focus: Hope, Manufacturing Div., Detroit, MI

TA-W-57,269; Temple Inland, Antioch Div., Antioch, CA

TA-W-57,363; Rhoda Lee, Inc., New York, NY

TA-W-57,271; Cerro Flow Products, Inc., Sauget, IL

TA-W-57,228; St. John Knits, Inc., a div. of St. John Knits International, Inc., San Ysidro, CA

TA-W-57,336 & A; United Machine Works, Inc., Bethel, NC and Greenville, NC

The investigation revealed that criteria (a)(2)(A)(I.B.) (Sales or production, or both, did not decline) and (a)(2)(B)(II.B) (No shift in production to a foreign country) have not been met.

TA-W-57,541; Firestone Tube Co., a subsidiary of Bridgestone/Firestone North American Tire LLC, Russellville, AR

TA-W-57,420; Honeywell Commercial Electronic Systems, a div. of Honeywell International, Glendale, AZ

TA-W-57,426; Mercury Marine Plant 7, Outboard Business Unit, including on-site leased workers of Westaff, St. Cloud, FL

TA-W-57,411; Lexington Home Brands, a subsidiary of Lexington Furniture Industries, Plant 15, Lexington, NC

The investigation revealed that criterion (a)(2)(A)(I.A) and (a)(2)(B)(II.A) (no employment decline) has not been met.

TA-W-57,498; Custom Machine Works, Inc., Fayetville, AR

TA-W-57,454; Glenayre Electronics, Duluth, GA

TA-W-57,526; Bard na nGleann International, a subsidiary of Ballingeary Co., San Jose, CA

TA-W-57,461; Elkin Printing, Inc., Ronda, NC

TA-W-57,442; Menlo Worldwide, Salem NH

TA-W-57,444; Whaling Industries, Inc., New York, NY

TA-W-57,532; Roller Derby Skate Corp., Atglen, PA

TA-W-57,532A; California Advanced Sports, La Mirada, CA

TA-W-57,532B; 360, Inc., La Mirada, CA

TA-W-57,470; Wilson Sporting Goods Co., Golf Div., a div. of Amer of Finland, Humboldt, TN

TA-W-57,430; Springs Industries, Inc., Creative Products Group, Rock Hill, SC

TA-W-57,379; Cerro Metal Products Co., a div. of The Marmon Group, Bellefonte, PA

TA-W-57,321; Reum Corp., a div. of Reum Group, Waukegan, IL

TA-W-57,446; Hercules, Inc., Aqualon Div., Parlin, NJ

TA-W-57,457; TRW Automotive, Occupant Safety Systems Div., Cookeville, TN

The workers firm does not produce an article as required for certification under Section 222 of the Trade Act of 1974.

TA-W-57,357 & A; Hewlett-Packard Co., 300 E 6th Street Facility, Cincinnati, OH and 11515 Grooms Road Facility, Cincinnati, OH

TA-W-57,341; Haggar Clothing Co., a div. of Haggar Corp., Sourcing Div., Weslaco Materials Warehouse, Weslaco, TX

TA-W-57,362; Sony Electronics, Inc., Solutions Engineering—Test Group, San Jose, CA

TA-W-57,512; us Airways, Inc., Myrtle Beach, SC

TA-W-57,489; APAC Customer Services of Illinois, Inc., a div. of APAC Customer Services, Inc., Canton, IL

TA-W-57,418; The Scotts Co., Global Business Information Services Department, Operations and Networking Function, Marysville, OH

TA-W-57,391; Nortel Networks, Convergence Multimedia Services, Raleigh, NC

TA-W-57,521; International Paper Co., Printing and Communications Papers Customer Service Div., Memphis, TN

TA-W-57,586 & A; Elberton Manufacturing Co., Elberton, GA and Rilla, Inc., Elberton, GA

TA-W-57,377; T-Mobile USA, Inc., National Return Center, LaGrange, GA

TA-W-57,254; Holcim (US), North American Service Center, IT Department, Dundee, MI

TA-W-57,450; Zebra Pen Corp., Edison, NJ

TA-W-57,349; PMC-Sierra, Inc., Microprocessor Products Div., Santa Clara, CA

TA-W-57,419; Sabre, Inc., a div. of Sabre, Inc., Tulsa, OK

TA-W-57,421; Blair Corporation, Erie Returns Center, Erie, PA

TA-W-57,251; J.C. Viramontes, d/b/a International Garment Processors, El Paso, TX

TA-W-57,297; Fashionspun Sales & Development, New York, NY

The investigation revealed that criteria (a)(2)(A)(I.C.) (Increased imports) and (a)(2)(B)(II.C) (has shifted production to a foreign country) have not been met.

TA-W-57,516; DiaSys Corporation, Waterbury, CT

The investigation revealed that criteria (2) has not been met. The workers firm (or subdivision) is not a supplier or downstream producer to trade-affected companies.

TA-W-57,238 & A; Reiter Greensboro, Inc., Greensboro, NC and Spartanburg, SC

Affirmative Determinations for Worker Adjustment Assistance

The following certifications have been issued; the date following the company name and location of each determination references the impact date for all workers of such determination.

The following certifications have been issued. The requirements of (a)(2)(A) (increased imports) of Section 222 have been met.

TA-W-57,406; Dana Corp., Torque-Traction Mfg., Inc., Cape Girardeau, MO: June 13, 2004.

TA-W-57,433; DSM Pharmaceuticals, Inc. (DPI), Information Technology (IT) Div., Greenville, NC: June 17, 2004.

TA-W-57,401; CDS Ensembles, Inc., Greer, SC: June 13, 2004.

TA-W-57,310; Autodie International, Inc., Grand Rapids, MI: May 26, 2004.

TA-W-57,507; Noble Industries, Ltd, Mason City, IA: June 30, 2004.

TA-W-57,463; Union Underwear Co., Inc., a subsidiary of Fruit of The Loom, Cut and Sew Department, Jamestown, KY: June 17, 2004.

TA-57,453; Federal Screw Works, Chelsea Div., Chelsea, MI: June 15, 2004.

TA-W-57,435; Burns Wood Products, Inc., including leased workers of Employment Staffing, Inc., Mulberry Group, People Connection, Able Body Labor and Accuforce Staffing, Granite Falls, NC: June 21, 2004.

TA-W-57,372; HO Sports Co., Inc., Redmond, WA: June 8, 2004.

TA-W-57,388; Nokia Corp., America's Time Zone Operations and logistics Div., including leased on-site workers from Adecco Staffing Services, Fort Worth, TX: June 16, 2004.

TA-W-57,473; Laneko Manufacturing Co., Press Production Div., a subsidiary of Laneko Engineering Co., Royersford, PA: June 23, 2004.

TA-W-57,347; Hart's Manufacturing Co., Corning, AR: June 8, 2004.

TA-W-57,322; Danaher Tool Group, Division of Easco Hand Tools, West Hartford, CT: June 7, 2004.

TA-W-57,558; H.A. Parts Products of Indiana Co (HAPPICO), a subsidiary of Altia Hashimoto, including leased on-site production workers from Manpower, Personnel Management, Inc., Employment Plus, and Labor Ready, Greencastle, IN: July 14, 2004.

TA-W-57,540; Menasha Packaging Co., Otsego Mill, Otsego, MI: July 13, 2004.

TA-W-57,375; Smith Jones, Inc., d/b/a Midwest Manufacturing Co., Kellogg, IA: June 8, 2003.

TA-W-57,315; Magruder Color, Elizabeth, NJ: January 23, 2005.

TA-W-57,236; Pinnacle Foods, Vandekamp Div., of Pinnacle Foods Group, Erie, PA: May 18, 2004.

TA-W-57,513; Tower Automotive Milwaukee, LLC, Milwaukee Business Unit, Milwaukee, WI: June 30, 2004.

TA-W-57,502; Tiercon Industries USA, Inc., Vassar, MI: July 1, 2004.

TA-W-57,549; Crane Plumbing, LLC, Somerset, PA: July 13, 2004.

TA-W-57,515; Diebold Southeast Manufacturing, Inc., a subsidiary of Diebold, Inc., Manufacturing Operations, Danville, VA: June 16, 2004.

TA-W-57,509; Greenville Finishing Co., Greenville, SC: July 5, 2004.

TA-W-57,490; Teleflex, Inc., Automotive Div., Van Wert, OH: July 26, 2005.

TA-W-57,485; Proman Manufacturing Co., Inc., Boston, MA: June 30, 2004.

TA-W-57,527; Dimco-Gray Co., Centerville, OH: June 22, 2004.

TA-W-57,492; Gilmour Manufacturing Co., including leased workers of Ruggieri Enterprises d/b/a Spherion and leased workers of Adecco Employment Services, Somerset, PA: July 11, 2005.

TA-W-57,451; Granite Knitwear, Inc., Granite Quarry, NC: June 22, 2004.

TA-W-57,538; Tyler Pipe Co., Tyler, TX: July 11, 2004.

TA-W-57,371; Hampton Paper and Transfer Printing, Inc., Johnson City, TN: June 9, 2004.

TA-W-57,288; Dana Glacier Vendervell, Glacier Vandervell N.A. Division, a subsidiary of Dana Corp., Caldwell, OH: June 1, 2004.

TA-W-57,279; Guardsmark, LLC, Working on-site at R.J. Reynolds Tobacco Co., Macon, GA: May 24, 2004.

TA-W-57,294; Hawley Products, Inc., Paducah, KY: May 25, 2004.

TA-W-57,477; Mount Vernon Mills, Inc., McCormick, SC: June 28, 2004.

TA-W-57,436; Leviton Manufacturing Co., Inc., Hillsgrove Div., Warwick, RI: June 27, 2005.

TA-W-57,386; First Inertia Switch, Grand Blanc, MI: June 15, 2004.

TA-W-57,384; Laidlaw Corporation, Kingman, AZ: June 15, 2004.

TA-W-57,339; Frazer & Jones Co., a div. of The Eastern Co., Soway, NY: January 3, 2005.

TA-W-57,312; Trans Western Polymers, including on-site leased workers of Hedy Holmes Staffing and Snelling Services, Livermore, CA: May 20, 2004.

TA-W-57,338; Cardinal Home Products, Inc., Tel-O-Post Div., Linesville, PA

TA-W-57,432; Alcoa Automotive Castings, KCC Div., Hawesville, KY

TA-W-57,385; Foster Electric (USA), Inc., Acoustic Authority Div., including leased workers of United Staffing Service, Select Personnel Service, Express Service Group and East-West Staffing, Valencia, CA

TA-W-57,413; Mount Vernon Mills, Inc., a subsidiary of R.B. Pamplin Corp., Tallassee, AL: June 20, 2004.

TA-W-57,486; Homecrest Industries, Wadena, MN

TA-W-57,296; Penn Metal Stamping, Inc., St. Marys, PA

TA-W-57,415; Quantum Corp., Formerly Known as Certance, Costa Mesa, CA

The following certifications have been issued. The requirements of (a)(2)(B) (shift in production) of Section 222 have been met.

TA-W-57,397; Wyeth, Wyeth Pharmaceuticals, Health Care Div., Rouses Point, NY: June 3, 2004.

TA-W-57,356; KeytronicEMS, Las Cruces Div., including on-site leased workers of Kelly Services, Las Cruces, NM: June 8, 2004.

TA-W-57,295; Findlay Industries, Inc., International Truck Interiors, Findlay, OH: February 15, 2005.

TA-W-57,326; Intel Corp., Hawthorn Farm 1, Systems Manufacturing, Systems Manufacturing Silicon Enabling, including on-site leased workers of Kelly Services, Hillsboro, OR: June 3, 2004.

TA-W-57,423; Bruckner Supply Co., workers on-site at Hamilton Sundstrand, a div. of United Technologies, Grand Junction, CO: June 13, 2004.

TA-W-57,317; Power-One, Inc., Andover, MA: February 20, 2005.

TA-W-57,273; Bernhardt Furniture Company, Upholstery Plant #5, including on-site leased workers of Able Body Temporary Service, Lenoir, NC: May 25, 2004.

TA-W-57,537; Victor Forstmann, Inc., East Dublin, GA: June 19, 2004.

TA-W-57,376; Flexmag Industries, Inc., a subsidiary of Arnold Magnetic Technologies Corp., Plastiform Div., including on-site leased workers of Staffco and Advanced Services, Norfolk, NE: June 8, 2004.

TA-W-57,298 & A; Guilford Mills, Inc., Hornaday Plant, Greensboro, NC and Fuquay Plant, Fuquay-Varina, NC: May 3, 2004.

TA-W-57,350; Motor Appliance Corp., Motors Div., Washington, MO: June 9, 2004.

TA-W-57,405 & A; Foamex, Plant #11, Newton, NC and Plant #60, Conover, NC: June 16, 2004.

TA-W-57,410; Ametek, U.S. Gauge Div., Bartow, FL: May 7, 2005.

TA-W-57,574; VF Jeanswear Limited Partnership, a subsidiary of VF Corp., Luray, VA: July 18, 2004.

TA-W-57,548; R.E. Phelon Co., Lomira, WI: July 2, 2004.

TA-W-57,394; Edscha Roof Systems, LLC, Greer, SC: June 9, 2004.

TA-W-57,484; Oce' Display Graphics Systems, Inc., including on-site leased workers of Accountants, Inc., West Valley Staffing, Pro-Source, Inc., San Jose, CA: June 27, 2004.

TA-W-57,400; Cooper Wiring Devices, Long Island City, NY: July 23, 2004.

TA-W-57,595; Black Rock Trailers, U.S. Div., a subsidiary of Snowbear, including on-site leased workers of Express Person Staffing and Malone, Shepherdsville, KY: July 20, 2004.

TA-W-57,583; Cooper Bussmann, including on-site leased workers of Adecco Personnel, Black Mountain, NC: July 30, 2005.

TA-W-57,550; Burner Systems International, Inc., Bonnyshire Facility, including on-site leased workers of Optimum Staffing and ATS Staffing, Chattanooga, TN: June 29, 2004.

TA-W-57,494; Toter, Inc., Sanger Div., including leased on-site workers of Placement Pros, Sanger, CA: June 14, 2004.

TA-W-57,497; Fun-Tees, Inc., Concord, NC: May 23, 2005.

TA-W-57,529; Batesville Casket Co., Nashua Manufacturing Operations, Nashua, NH: June 24, 2004.

TA-W-57,511; Trane Co., a div. of American Standard Companies, La Crosse, WI: July 6, 2004.

TA-W-57,458; Northern Technologies, Inc., Liberty Lake, WA: June 28, 2004.

TA-W-57,438; Hudson RCI, a/k/a Teleflex Medical, Temecula, CA: June 20, 2004.

TA-W-57,309 & A, B; Kulicke & Soffa Industries, Inc., Plant B, K&S Interconnect, Package Test Div., including on-site leased workers of Superior Staffing and ATR, Hayward, CA, Plant A, K&S Interconnect, Test Div., San Jose, CA, Plant C, Semitec, Hub Blades Div., including on-site leased workers of Advance Technical Resources, Inc., Superior Staffing Services, & Coast Personnel Services, Santa Clara, CA: May 26, 2004.

TA-W-57,429; Tyco Electronics, Power Components—Roychem Div., Menlo Park, CA: June 21, 2004.

TA-W-57,399; Electrolux Home Products, Refrigeration Div., including on-site leased workers of Aerotek, Greenville, MI: June 17, 2004.

TA-W-57,337; Bernhardt Furniture Co., Upholstery Div., Plant #11, including leased on-site workers from Accuforce, Lenoir, NC: May 25, 2004.

TA-W-57,409; Elbeco, Inc., Meyersdale Manufacturing Co., Meyersdale, PA: June 7, 2004.

TA-W-57,365; Best Manufacturing, Cordele Div., Cordele, GA: June 5, 2004.

TA-W-57,335; Teledyne Analytical Instruments, Sensor Department, City of Industry, CA: June 7, 2004.

TA-W-57,325; Danly IEM, Beaver Dam, WI: June 2, 2004.

TA-W-57,478; Thomasville Furniture Industries, Inc., Plant SFD, Lexington, NC, and A; Plant E, Thomasville, NC: March 11, 2005.

TA-W-57,478B; Thomasville Furniture Industries, Inc., Central Machine Facility, Thomasville, NC, C; Central Lumber Yard, Thomasville, NC, C; Central Lumber Yard, Thomasville, NC, D; Central Dry Kiln, Thomasville, NC, E; Wood Waste, Thomasville, NC, F; Plant 64 Lumber Stacker, Lexington, NC and G; Plant 64 Lumber Processing, Lexington, NC: June 29, 2004.

TA-W-57,480; Vishay Micro-Measurements, a subsidiary of Vishay Intertechnology, Inc., Wendell, NC: June 29, 2004.

TA-W-57,282; Bernhardt Furniture Co., Upholstery Div., Plant 6, including leased on-site workers from Accuforce, Lenoir, NC: May 25, 2004.

TA-W-57,209; General Dynamics Land Systems, Wire Harness Group, including on-site leased workers of Manpower, Inc., Imperial, CA: April 21, 2004.

TA-W-57,439 & A; Unit Parts Co., A Remy, Inc., Co., Oklahoma City, OK, and Edmond, OK: June 22, 2004.

TA-W-57,464; Delta Galil USA, Inc., Williamsport, PA: June 28, 2004.

TA-W-57,508; DeBall, Inc., Asheville, NC: July 6, 2004.

TA-W-57,383; Lexalite International Corp., a subsidiary of Summa Industries, Charlevoix, MI: All workers engaged in the production of injection molded products and mold construction builds, who became totally or partially separated from employment on or after June 15, 2004.

TA-W-57,462; Kennametal, Inc., Solid Carbide Drills, Latrobe, PA: June 24, 2004.

TA-W-57,431; Fecheimer Brothers Company, a subsidiary of Berkshire Hathaway, Jefferson, PA: June 16, 2004.

TA-W-57,452; Zorlu Manufacturing Co., LLC, Union Point Facility, Union Point, GA: June 14, 2004.

TA-W-57,437; Eaton Corp., Fluid Power Group, including on-site leased workers of Adecco Personnel, Vinita, OK: June 22, 2004.

TA-W-57,292; JDS Uniphase, Inc., CCP Div., including on-site leased workers of Spherion, Santa Rosa, CA: May 27, 2004.

TA-W-57,441; Wescast Industries of Georgia, Inc., a subsidiary of Wescast holdings USA, Inc., including on-site leased workers of Workstaff Personnel of Georgia, LLC, Cordele, GA: June 22, 2004.

The following certification has been issued. The requirement of downstream producer to a trade certified firm has been met.

None

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)3)ii) have not been met for the reasons specified.

The Department as determined that criterion (2) of Section 246 has not been met. Workers at the firm possess skills that are easily transferable.

TA-W-57,338; Cardinal Home Products, Inc., Tel-O-Post Div., Linesville, PA

TA-W-57,432; Alcoa Automotive Castings, KCC Div., Hawesville, KY

TA-W-57,385; Foster Electric (USA), Inc., Acoustic Authority Div., including leased workers of United Staffing Service, Select Personnel Service, Express Service Group and East-West Staffing, Valencia, CA

TA-W-57,413; Mount Vernon Mills, Inc., a subsidiary of R.B. Pamplin Corp., Tallassee, AL: June 20, 2004.

TA-W-57,486; Homecrest Industries, Wadena, MN

TA-W-57,296; Penn Metal Stamping, Inc., St. Marys, PA

TA-W-57,415; Quantum Corp., Formerly Known as Certance, Costa Mesa, CA

TA-W-57,462; Kennametal, Inc., Solid Carbide Drills, Latrobe, PA: June 24, 2004.

TA-W-57,431; Fecheimer Brothers Company, a subsidiary of Berkshire Hathaway, Jefferson, PA: June 16, 2004.

TA-W-57,452; Zorlu Manufacturing Co., LLC, Union Point Facility, Union Point, GA: June 14, 2004.

TA-W-57,437; Eaton Corp., Fluid Power Group, including on-site leased workers of Adecco Personnel, Vinita, OK: June 22, 2004.

TA-W-57,292; JDS Uniphase, Inc., CCP Div., including on-site leased workers of Spherion, Santa Rosa, CA: May 27, 2004.

TA-W-57,441; Wescast Industries of Georgia, Inc., a subsidiary of Wescast holdings USA, Inc., including on-site leased workers of Workstaff Personnel of Georgia, LLC, Cordele, GA: June 22, 2004.

The Department as determined that criterion (1) of Section 246 has not been met. Workers at the firm are 50 years of age or older.

TA-W-57,383; Lexalite International Corp., a subsidiary of Summa Industries, Charlevoix, MI: All workers engaged in the production mold construction builds are denied ATAA

Since the workers are denied eligibility to apply for TAA, the workers cannot be certified eligible for ATAA.

TA-W-57,373; Teradyne, Teradyne Semiconductor Test Div., Central Boston, MA

TA-W-57,392; Apex Texicon, Inc., Bangor, PA

TA-W-57,471; Rohm and Haas Chemicals, LLC, Power Coatings Div., Wytheville, VA

TA-W-57,505; The Eckadams Co., Osceola, AR

TA-W-57,408; Advanced Electronics, Inc., Boston, MA

TA-W-57,417; Unaxis Optics USA, Inc., a subsidiary of Unaxis, including on-site production workers from Excell Personnel and Express Personnel, Golden, CO

TA-W-57,113; Vander-Bend Manufacturing, LLC, Sunnyvale, CA

TA-W-57,259; Omni Integrated Technologies, Inc., Fairfield, OH

TA-W-57,364; Akro-Mills, div. of Myers Industries, Inc., Akron, OH

TA-W-57,468; Milwaukee Electric Tool Corp., Brookfield Plant, Brookfield, WI

TA-W-57,269; Temple Inland, Antioch Div., Antioch, CA

TA-W-57,363; Rhoda Lee, Inc., New York, NY

TA-W-57,271; Cerro Flow Products, Inc., Sauget, IL

TA-W-57,228; St. John Knits, Inc., a div. of St. John Knits International, Inc., San Ysidro, CA

TA-W-57,336 & A; United Machine Works, Inc., Bethel, NC and Greenville, NC

TA-W-57,420; Honeywell Commercial Electronic Systems, a div. of Honeywell International, Glendale, AZ

TA-W-57,426; Mercury Marine Plant 7, Outboard Business Unit, including on-site leased workers of Westaff, St. Cloud, FL

TA-W-57,411; Lexington Home Brands, a subsidiary of Lexington Furniture Industries, Plant 15, Lexington, NC

TA-W-57,498; Custom Machine Works, Inc., Fayetville, AR

TA-W-57,454; Glenayre Electronics, Duluth, GA

TA-W-57,526; Bard na nGleann International, a subsidiary of Ballingeary Co., San Jose, CA

TA-W-57,461; Elkin Printing, Inc., Ronda, NC

TA-W-57,442; Menlo Worldwide, Salem, NH

TA-W-57,532; Roller Derby Skate Corp., Atglen, PA

TA-W-57,532A; California Advanced Sports, La Mirada, CA

TA-W-57,532B; 360, Inc., La Mirada, CA

TA-W-57,470; Wilson Sporting Goods Co., Golf Div., a div. of Amer of Finland, Humboldt, TN

TA-W-57,430; Springs Industries, Inc., Creative Products Group, Rock Hill, SC

TA-W-57,379; Cerro Metal Products Co., a div. of The Marmon Group, Bellefonte, PA

TA-W-57,321; Reum Corporation, a div. of Reum Group, Waukegan, IL

TA-W-57,446; Hercules, Inc., Aqualon Div., Parlin, NJ

TA-W-57,457; TRW Automotive, Occupant Safety Systems Div., Cookeville, TN

TA-W-57,512; U.S. Airways, Inc., Myrtle Beach, SC

TA-W-57,418; The Scotts Co., Global Business Information Services Dept., Operations and Networking Function, Marysville, OH

TA-W-57,391; Nortel Networks, Convergence Multimedia Services, Raleigh, NC

TA-W-57,521; International Paper Co., Printing and Communications Papers Customer Service Div., Memphis, TN

TA-W-57,586 & A; Elberton Manufacturing Co., Elberton, GA and Rilla, Inc., Elberton, GA

TA-W-57,377; T-Mobile USA, Inc., National Return Center, LaGrange, GA

TA-W-57,254; Holcim (US), North American Service Center, IT Department, Dundee, MI

TA-W-57,450; Zebra Pen Corporation, Edison, NJ

TA-W-57,349; PMC-Sierra, Inc., Microprocessor Products Div., Santa Clara, CA

TA-W-57,419; Sabre Holdings, Inc., a div. of Sabre, Inc., Tulsa, OK

TA-W-57,421; Blair Corporation, Erie Returns Center, Erie, PA

TA-W-57,251; J.C. Viramontes, d/b/a International Garment Processors, El Paso, TX

TA-W-57,297; Fashionspun Sales & Development, New York, NY

TA-W-57,488; Plastic Oddities, Inc., Shelby, NC

TA-W-57,516; DiaSys Corporation, Waterbury, CT

TA-W-57,238 & A; Reiter Greensboro, Inc., Greensboro, NC and Spartanburg, SC

TA-W-57,403; Alfa Laval, Inc., Fluid Handling Operation, Pleasant Prairie, WI

Affirmative Determinations for Alternative Trade Ajdustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-57,401; CDS Ensembles, Inc., Greer. SC: June 13, 2004.

TA-W-57,310; Autodie International, Inc., Grand Rapids, MI: May 26, 2004.

TA-W-57,507; Noble Industries, Ltd, Mason City, IA: June 30, 2004.

TA-W-57,463; Union Underwear Co., Inc., a subsidiary of Fruit of The Loom, Cut and Sew Department, Jamestown, KY: June 17, 2004.

TA-57,453; Federal Screw Works, Chelsea Div., Chelsea, MI: June 15, 2004.

TA-W-57,435; Burns Wood Products, Inc., including leased workers of Employment Staffing, Inc., Mulberry Group, People Connection, Able Body Labor and Accuforce Staffing, Granite Falls, NC: June 21, 2004.

TA-W-57,372; HO Sports Co., Inc., Redmond, WA: June 8, 2004.

TA-W-57,388; Nokia Corp., America's Time Zone Operations and logistics Div., including leased on-site workers from Adecco Staffing Services, Fort Worth, TX: June 16, 2004.

TA-W-57,473; Laneko Manufacturing Co., Press Production Div., a subsidiary of Laneko Engineering Co., Royersford, PA: June 23, 2004.

TA-W-57,347; Hart's Manufacturing Co., Corning, AR: June 8, 2004.

TA-W-57,322; Danaher Tool Group, Division of Easco Hand Tools, West Hartford, CT: June 7, 2004.

TA-W-57,558; H.A. Parts Products of Indiana Co (HAPPICO), a subsidiary of Altia Hashimoto, including leased on-site production workers from Manpower, Personnel Management, Inc., Employment Plus, and Labor Ready, Greencastle, IN: July 14, 2004.

TA-W-57,540; Menasha Packaging Co., Otsego Mill, Otsego, MI: July 13, 2004.

TA-W-57,375; Smith Jones, Inc., d/b/a Midwest Manufacturing Co., Kellogg, IA: June 8, 2003.

TA-W-57,315; Magruder Color, Elizabeth, NJ: January 23, 2005.

TA-W-57,236; Pinnacle Foods, Vandekamp Div., of Pinnacle Foods Group, Erie, PA: May 18, 2004.

TA-W-57,513; Tower Automotive Milwaukee, LLC, Milwaukee Business Unit, Milwaukee, WI: June 30, 2004.

TA-W-57,502; Tiercon Industries USA, Inc., Vassar, MI: July 1, 2004.

TA-W-57,549; Crane Plumbing, LLC, Somerset, PA: July 13, 2004.

TA-W-57,515; Diebold Southeast Manufacturing, Inc., a subsidiary of Diebold, Inc., Manufacturing Operations, Danville, VA: June 16, 2004.

TA-W-57,509; Greenville Finishing Co., Greenville, SC: July 5, 2004.

TA-W-57,490; Teleflex, Inc., Automotive Div., Van Wert, OH: July 26, 2005

TA-W-57,485; Proman Manufacturing Co., Inc., Boston, MA: June 30, 2004.

TA-W-57,527; Dimco-Gray Co., Centerville, OH: June 22, 2004.

TA-W-57,492; Gilmour Manufacturing Co., including leased workers of Ruggieri Enterprises d/b/a Spherion and leased workers of Adecco Employment Services, Somerset, PA: July 11, 2005.

TA-W-57,451; Granite Knitwear, Inc., Granite Quarry, NC: June 22, 2004.

TA-W-57,538; Tyler Pipe Co., Tyler, TX: July 11, 2004.

TA-W-57,371; Hampton Paper and Transfer Printing, Inc., Johnson City, TN: June 9, 2004.

TA-W-57,288; Dana Glacier Vendervell, Glacier Vandervell N.A. Division, a subsidiary of Dana Corp., Caldwell, OH: June 1, 2004.

TA-W-57,279; Guardsmark, LLC, Working on-site at R.J. Reynolds Tobacco Co., Macon, GA: May 24, 2004.

TA-W-57,294; Hawley Products, Inc., Paducah, KY: May 25, 2004.

TA-W-57,477; Mount Vernon Mills, Inc., McCormick, SC: June 28, 2004.

TA-W-57,436; Leviton Manufacturing Co., Inc., Hillsgrove Div., Warwick, RI: June 27, 2005.

TA-W-57,386; First Inertia Switch, Grand Blanc, MI: June 15, 2004.

TA-W-57,384; Laidlaw Corporation, Kingman, AZ: June 15, 2004.

TA-W-57,339; Frazer & Jones Co., a div. of The Eastern Co., Soway, NY: January 3, 2005.

TA-W-57,312; Trans Western Polymers, including on-site leased workers of Hedy Holmes Staffing and Snelling Services, Livermore, CA: May 20, 2004.

TA-W-57,397; Wyeth, Wyeth Pharmaceuticals, Health Care Div., Rouses Point, NY: June 3, 2004.

TA-W-57,356; KeytronicEMS, Las Cruces Div., including on-site leased workers of Kelly Services, Las Cruces, NM: June 8, 2004.

TA-W-57,295; Findlay Industries, Inc., International Truck Interiors, Findlay, OH: February 15, 2005.

TA-W-57,326; Intel Corp., Hawthorn Farm 1, Systems Manufacturing, Systems Manufacturing Silicon Enabling, including on-site leased workers of Kelly Services, Hillsboro, OR: June 3, 2004.

TA-W-57,423; Bruckner Supply Co., workers on-site at Hamilton Sundstrand, a div. of United Technologies, Grand Junction, CO: June 13, 2004.

TA-W-57,317; Power-One, Inc., Andover, MA: February 20, 2005.

TA-W-57,273; Bernhardt Furniture Company, Upholstery Plant #5, including on-site leased workers of Able Body Temporary Service, Lenoir, NC: May 25, 2004.

TA-W-57,537; Victor Forstmann, Inc., East Dublin, GA: June 19, 2004.

TA-W-57,376; Flexmag Industries, Inc., a subsidiary of Arnold Magnetic Technologies Corp., Plastiform Div., including on-site leased workers of Staffco and Advanced Services, Norfolk, NE: June 8, 2004.

TA-W-57,298 & A; Guilford Mills, Inc., Hornaday Plant, Greensboro, NC and Fuquay Plant, Fuquay-Varina, NC: May 3, 2004.

TA-W-57,350; Motor Appliance Corp., Motors Div., Washington, MO: June 9, 2004.

TA-W-57,405 & A; Foamex, Plant #11, Newton, NC and Plant #60, Conover, NC: June 16, 2004.

TA-W-57,410; Ametek, U.S. Gauge Div., Bartow, FL: May 7, 2005.

TA-W-57,574; VF Jeanswear Limited Partnership, a subsidiary of VF Corp., Luray, VA: July 18, 2004.

TA-W-57,548; R.E. Phelon Co., Lomira, WI: July 2, 2004.

TA-W-57,394; Edscha Roof Systems, LLC, Greer, SC: June 9, 2004.

TA-W-57,484; Oce' Display Graphics Systems, Inc., including on-site leased workers of Accountants, Inc., West Valley Staffing, Pro-Source, Inc., San Jose, CA: June 27, 2004.

TA-W-57,400; Cooper Wiring Devices, Long Island City, NY: July 23, 2004.

TA-W-57,595; Black Rock Trailers, U.S. Div., a subsidiary of Snowbear, including on-site leased workers of Express Person Staffing and Malone, Shepherdsville, KY: July 20, 2004.

TA-W-57,583; Cooper Bussmann, including on-site leased workers of Adecco Personnel, Black Mountain, NC: July 30, 2005.

TA-W-57,529; Batesville Casket Co., Nashua Manufacturing Operations, Nashua, NH: June 24, 2004.

TA-W-57,550; Burner Systems International, Inc., Bonnyshire Facility, including on-site leased workers of Optimum Staffing and ATS Staffing, Chattanooga, TN: June 29, 2004.

TA-W-57,494; Toter, Inc., Sanger Div., including leased on-site workers of Placement Pros, Sanger, CA: June 14, 2004.

TA-W-57,497; Fun-Tees, Inc., Concord, NC: May 23, 2005.

TA-W-57,511; Trane Co., a div. of American Standard Companies, La Crosse, WI: July 6, 2004.

TA-W-57,458; Northern Technologies, Inc., Liberty Lake, WA: June 28, 2004.

TA-W-57,438; Hudson RCI, a/k/a Teleflex Medical, Temecula, CA: June 20, 2004.

TA-W-57,309 & A, B; Kulicke & Soffa Industries, Inc., Plant B, K&S Interconnect, Package Test Div., including on-site leased workers of Superior Staffing and ATR, Hayward, CA, Plant A, K&S Interconnect, Test Div., San Jose, CA, Plant C, Semitec, Hub Blades Div., including on-site leased workers of Advance Technical Resources, Inc., Superior Staffing Services, and Coast Personnel Services, Santa Clara, CA: May 26, 2004.

TA-W-57,429; Tyco Electronics, Power Components—Roychem Div., Menlo Park, CA: June 21, 2004.

TA-W-57,399; Electrolux Home Products, Refrigeration Div., including on-site leased workers of Aerotek, Greenville, MI: June 17, 2004.

TA-W-57,337; Bernhardt Furniture Co., Upholstery Div., Plant #11, including leased on-site workers from Accuforce, Lenoir, NC: May 25, 2004.

TA-W-57,409; Elbeco, Inc., Meyersdale Manufacturing Co., Meyersdale, PA: June 7, 2004.

TA-W-57,365; Best Manufacturing, Cordele Div., Cordele, GA: June 5, 2004.

TA-W-57,335; Teledyne Analytical Instruments, Sensor Department, City of Industry, CA: June 7, 2004.

TA-W-57,325; Danly IEM, Beaver Dam, WI: June 2, 2004.

TA-W-57,478; Thomasville Furniture Industries, Inc., Plant SFD, Lexington, NC, and A; Plant E, Thomasville, NC: March 11, 2005.

TA-W-57,478B; Thomasville Furniture Industries, Inc., Central Machine Facility, Thomasville, NC, C; Central Lumber Yard, Thomasville, NC, C; Central Lumber Yard, Thomasville, NC, D; Central Dry Kiln, Thomasville, NC, E; Wood Waste, Thomasville, NC, F; Plant 64 Lumber Stacker, Lexington, NC and G; Plant 64 Lumber Processing, Lexington, NC: June 29, 2004.

TA-W-57,480; Vishay Micro-Measurements, a subsidiary of Vishay Intertechnology, Inc., Wendell, NC: June 29, 2004.

TA-W-57,282; Bernhardt Furniture Co., Upholstery Div., Plant 6, including leased on-site workers from Accuforce, Lenoir, NC: May 25, 2004.

TA-W-57,209; General Dynamics Land Systems, Wire Harness Group, including on-site leased workers of Manpower, Inc., Imperial, CA: April 21, 2004.

TA-W-57,439 & A; Unit Parts Co., A Remy, Inc., Co., Oklahoma City, OK, and Edmond, OK: June 22, 2004.

TA-W-57,464; Del TA Galil USA, Inc., Williamsport, PA: June 28, 2004.

TA-W-57,508; DeBall, Inc., Asheville, NC: July 6, 2004.

TA-W-57,383; Lexalite International Corp., a subsidiary of Summa Industries, Charlevoix, MI: All workers engaged in the production of injection molded products, who became totally or partially separated from employment on or after June 15, 2004.

TA-W-53,754; Douglas Quikut, Quikut Div., Walnut Ridge, AR: November 5, 2002 through December 23, 2005.

TA-W-52,445; Baron Drawn Steel Corp., Toledo, OH: July 21, 2002 through August 25, 2005.

TA-W-54,970; Lifescan, Inc., a div. of Johnson and Johnson, Milpitas, CA: May 20, 2003 through July 2, 2006.

TA-W-53,912; AK Steel, Butler, PA: December 31, 2002 through February 11, 2006.

TA-W-54,181; Oxford Industries, Cutting Department, Gaffney, SC: February 4, 2003 through February 23, 2006.

I hereby certify that the aforementioned determinations were issued during the month of July 2005. Copies of these determinations are available for inspection in Room C-5311, U.S. Department of Labor, 200 Constitution Avenue, NW., Washington, DC 20210 during normal business hours or will be mailed to persons who write to the above address.

Dated: August 16, 2005.
Timothy Sullivan,
Director, Division of Trade Adjustment Assistance.

[FR Doc. E5-4677 Filed 8-25-05; 8:45 am]

BILLING CODE 4510-30-P